DEPARTMENT OF TRANSPORTATION

Federal Highway Administration

Environmental Impact Statement: Contra Costa, Alameda, & San Joaquin Counties, California

AGENCY: Federal Highway Administration (FHWA), Department of Transportation (DOT).

ACTION: Notice of intent.

SUMMARY: The FHWA, on behalf of the California Department of Transportation (Caltrans), is issuing this notice to advise the public that a Draft Environmental Impact Statement (Draft EIS) will be prepared for the proposed State Route (SR) 239 highway project (Project) in Contra Costa, Alameda, and San Joaquin Counties, California.

DATES: This notice will be accompanied by a 62-day public scoping comment period from Friday, November 18, 2022, to January 18, 2023. The deadline for public comments is 5:00 p.m. (PST) on Wednesday, January 18, 2023. Because COVID-19 social distancing advisories are still in effect, no physical public meetings will be held during the public scoping comment period. Instead, Caltrans will hold an online public scoping meeting on Tuesday, December 13, 2022 from 5:30 p.m. to 7:00 p.m. The link to the public scoping meeting will be posted on the project website at www.SR239project.net in advance of the meeting. Additional project information will also be made available on the project website throughout the entire public comment period. The project website at www.SR239project.net can also be accessed through the Caltrans website at https://dot.ca.gov/caltrans-near-me/district-4/d4-projects/. Project materials that will be posted on the www.SR239project.net website will include project background, project schedule, frequently asked questions, archival information from prior public outreach presentations, newly developed narrated presentation slides about the SR 239 Project's purpose and need, the alternatives currently being considered, the alternatives previously considered, etc. A poster gallery will also be available that features project alternatives and other key project information.

The website and scoping meeting will enable the public to share thoughts on the project material, the project alternatives under consideration and alternatives previously considered but rejected, and suggest other alternatives. The public can submit formal scoping comments through the www.SR239project.net website via an electronic comment submission form, via email at info@SR239project.net, via the project telephone line at (925) 255-5466, or via postal mail at the contact information listed below. Comments received through these methods will become part of the public record. In addition to email notifications, Caltrans will mail notification postcards via USPS to the public, based on information collected from early public outreach efforts, and to city, county and state officials with jurisdiction in the project area. Postcards provide contact information for requesting information in alternative formats or alternative language translation services.

More information can also be found at the project website at www.SR239project.net or https://dot.ca.gov/caltrans-near-me/district-4/d4-projects/.

FOR FURTHER INFORMATION CONTACT: Caltrans District 4, P.O. Box 23660, MS-8B, Oakland, CA 94623-0660, ATTN: Lily Mu, Environmental Scientist.

SUPPLEMENTARY INFORMATION: Effective July 1, 2007, the Federal Highway Administration (FHWA) assigned, and the California Department of Transportation (Caltrans) assumed, environmental responsibilities for this project pursuant to 23 U.S.C. 327. Caltrans as the assigned National Environmental Policy Act (NEPA) agency, and in partnership with the Contra Costa Transportation Authority (CCTA) as the project sponsor, will prepare a Draft EIS on a proposal for construction of a new highway, SR 239, in Contra Costa, Alameda, and San Joaquin Counties, California. The project limits extend from SR 4 near Marsh Creek Road in eastern Contra Costa County to Interstate 580 in Alameda County or to Interstate 205 in San Joaquin County. This new route is needed to ultimately improve the transportation network for an area that has few north-south roadway connections between eastern Contra County and the western San Joaquin Valley. The SR 239 Project is particularly important as it would provide relief from increasing commute traffic through the town of Byron, enhance mobility in eastern Contra Costa County, and improve access to the Byron Airport. Caltrans and CCTA are also considering multimodal alternatives for the State Route 239 Project, such as transit and active transportation improvements. Project objectives include: improving access and mobility between eastern Contra Costa County and western San Joaquin County, supporting inter-regional north-south goods movement operations, reducing regional/non-local traffic through the Town of Byron, improving access to Byron Airport to support planned development and as an emergency logistics hub, providing improvements for regional and sustainable alternative modes of travel, and providing an enhanced evacuation route in the event of major disasters.

Caltrans and CCTA are evaluating the overall State Route 239 corridor at both a Tier I (program) level and a Tier II (project) level. The Tier I programmatic-level study will evaluate and analyze alternatives that cover the entire SR 239 corridor and will consist of a broad and general assessment used to establish and consider the types of environmental impacts that could occur as a result of the ultimate construction and operation of the entire project. Caltrans and CCTA are also evaluating an initial phase of the State 239 Project at a Tier II project-level of evaluation. The Tier II evaluation will consist of a detailed, site-specific analysis that allows for project approval, design and construction of the initial phase.

Currently, the range of alternatives being considered include either taking no action on the proposed new SR 239 (No-Build Alternative) or proceeding with one of two potential build alternatives for the Tier I corridor. Alternative A would be a four-lane highway with an alignment generally east of the Byron Airport that proceeds southward and towards the west of Mountain House that then connects to the I-580/I-205 interchange. Alternative B would be a four-lane highway with an alignment east of the Byron Airport that would become parallel to and west of Byron Highway before joining Byron Road and connecting to I-205 west of Tracy. With respect to Tier II, this initial phase is proposed to be a two-lane facility (one lane in each direction) between State Route 4 near Marsh Creek Road and the Byron Airport. This initial phase would constitute an initial fundable and operable project segment to connect Vasco Road and Byron Highway and would be common to both build alternatives.

The Tier I (program) and Tier II (project) evaluations will be included in a single combined document, a Tier I/Tier II EIR/EIS, consistent with the requirements of CEQA and NEPA. Later phases, beyond the initial phase, would require future separate Tier II (project-level) environmental documents before they are programmed for design and construction.

Federal permits and approvals are anticipated from the U.S. Fish and Wildlife Service (USFWS), U.S. Bureau of Reclamation (USBR), U.S. Army Corps of Engineers (USACE), National Marine Fisheries Service (NMFS), and the U.S. Department of the Interior under Section 4(f) of the Department of Transportation Act (1966).

Letters describing the proposed action and soliciting comments will be sent to appropriate Federal, State, Cooperating and Participating Agencies, local agencies, Tribal governments including the Costanoan, Me-Wuk, Miwok, Costanoan Northern Valley Yokut, Pomo, Foothill Yokut Mono, Bay Miwok Ohlone Patwin Plains Miwok, and Bay Miwok Ohlone Delta Yokut tribes, as well as to private organizations and citizens who have previously expressed or are known to have interest in this proposal. The project team anticipates reviewing all public comments received during the public scoping period and circulating a Draft EIS. In addition, a public hearing will be held once the Draft EIS is completed. Public notice will be given of the time and place of the meeting and hearing. The Draft EIS will be available for public and agency review and comment prior to the public hearing to ensure that the full range of issues related to this proposed action are addressed and all significant issues identified, comments, and suggestions are invited from all interested parties. Comments or questions concerning this proposed action and the Draft EIS should be directed to Caltrans at the address provided above.

(Catalog of Federal Domestic Assistance Program Number 20.205, Highway Planning and Construction. The regulations implementing Executive Order 12372 regarding intergovernmental consultation on Federal programs and activities apply to this program.)

Antonio Johnson,
Director, Planning, Environment, and Right of Way, Federal Highway Administration, California Division.

[FR Doc. 2022-25444 Filed 11-21-22; 8:45 am]

BILLING CODE 4910-22-P